DEPARTMENT OF LABOR

Employee Benefits Security Administration

Proposed Extension of Information Collection: Comment Request National Medical Support Notice—Part B

AGENCY: Employee Benefits Security Administration, Department of Labor.

ACTION: Notice.

SUMMARY: The Department of Labor (the Department), as part of its continuing effort to reduce paperwork and respondent burden, conducts a preclearance consultation program to provide the general public and Federal agencies with an opportunity to comment on proposed and continuing collections of information in accordance with the Paperwork Reduction Act of 1995 (PRA 95) (44 U.S.C. 3506(c)(2)(A)). This program helps to ensure that the data the Department collects can be provided in the desired format, that the reporting burden on the public (time and financial resources) is minimized, that the public understands the Department's collection instruments, and that the Department can accurately assess the impact of its collection requirements on respondents.

Currently, the Employee Benefits Security Administration (EBSA) is soliciting comments concerning an extension of the current approval of the information collections in the regulation entitled National Medical Support Notice—Part B. A copy of EBSA's proposed information collection request (ICR) can be obtained by contacting the individual listed below in the ADDRESSES section of this notice.

DATES: Comments must be submitted to the office shown in the ADDRESSES section on or before March 27, 2006.

ADDRESSES: Direct all comments regarding the ICR and burden estimates to Susan G. Lahne, Office of Policy and Research, Employee Benefits Security Administration, U.S. Department of Labor, 200 Constitution Avenue, NW., Washington, DC 20210. Comments may be submitted in writing to the above address, via facsimile to (202) 219-4745, or electronically to the following Internet e-mail address: ebsa.opr@dol.gov. You may contact Ms. Lahne for further information at (202) 693-8410. The above-listed telephone numbers are not toll-free numbers.

SUPPLEMENTARY INFORMATION:

I. Background

Section 609(a) of the Employee Retirement Income Security Act of 1974, as amended (ERISA), requires each group health plan, as defined in ERISA section 607(1), to provide benefits in accordance with the applicable requirements of any “qualified medical child support order” (QMCSO). A QMCSO is, generally, an order issued by a state court or other competent state authority that requires a group health plan to provide group health coverage to a child or children of an employee eligible for coverage under the plan. In accordance with Congressional directives contained in the Child Support Performance and Incentive Act of 1998, EBSA and the Federal Office of Child Support Enforcement (OCSE) in the Department of Health and Human Services (HHS) cooperated in the development of regulations to create a National Medical Support Notice (NMSN or Notice). The Notice simplifies the establishment and processing of qualified medical child support orders issued by state child support enforcement agencies; provides for standardized communication between state agencies, employers, and plan administrators; and creates a uniform and streamlined process for enforcement of medical child support obligations ordered by state child support enforcement agencies. The NMSN comprises two parts: Part A was promulgated by HHS and pertains to state child support enforcement agencies; Part B was promulgated by the Department and pertains to plan administrators pursuant to ERISA. This solicitation of public comment relates only to Part B of the NMSN, which was promulgated by the Department. In connection with promulgation of Part B of the NMSN, the Department submitted an ICR to the Office of Management and Budget (OMB) for review, and OMB approved the information collections contained in the Part B regulation under OMB control number 1210-0113. OMB's current approval of this ICR is scheduled to expire on April 30, 2006.

II. Desired Focus of Comments

The Department is currently soliciting comments on the information collections contained in its regulation codified at 29 CFR 2590.609-2, National Medical Support Notice—Part B. The Department is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., by permitting electronic submissions of responses.

III. Current Actions

This notice requests comments on the extension of the ICR included in the regulation promulgating Part B of the National Medical Support Notice. The Department is not proposing or implementing changes to the existing ICR at this time. A summary of the ICR and the current burden estimates follows:

Agency: Employee Benefits Security Administration, Department of Labor.

Title: National Medical Support Notice—Part B.

Type of Review: Extension of a currently approved collection of information.

OMB Number: 1210-0113.

Affected Public: Individuals or households; business or other for-profit; not-for-profit institutions.

Respondents: 156,000.

Responses: 770,000.

Estimated Total Burden Hours: 785,000.

Estimated Total Burden Cost (Operating and Maintenance): $1,100,000.

Comments submitted in response to this notice will be summarized and/or included in the request for OMB approval of the ICR; they will also become a matter of public record.

Dated: January 19, 2006.
Susan G. Lahne,
Office of Policy and Research, Employee Benefits Security Administration.

[FR Doc. E6-884 Filed 1-24-06; 8:45 am]

BILLING CODE 4510-29-P